DEPARTMENT OF AGRICULTURE

Submission for OMB Review; Comment Request

November 19, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by December 26, 2012 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: National Poultry Improvement Plan (NPIP).

OMB Control Number: 0579-0007.

Summary of Collection: The National Poultry Improvement Plan (NPIP) is a voluntary Federal-State-industry mechanism for controlling certain poultry diseases and for improving poultry flocks and products through disease control techniques. The National Turkey Improvement Plan was combined with the NPIP in 1970 to create the NPIP, as it now exists. Emu, rhea, ostrich, and cassowary breeding flocks are also allowed participation in the Plan. The NPIP requires several information collection activities, including: The memorandum of understanding; flock selecting and testing report; sales reports, including sales of hatching eggs, chicks, and poults, breeding flock and slaughter plant participation summaries, hatchery participation summaries, salmonella investigation reports, flock and hatchery inspection reports. Sentinel bird identification, salmonella serotyping requests, small chick order printouts and appraisal and indemnity forms. Authority for this program is contained in the U.S. Department of Agriculture Organic Act of 1944, as amended (7 U.S.C. 429). The cooperative work is carried out through a Memorandum of Understanding with the participating States.

Need and Use of the Information: APHIS will collection information to continually improve the health of the U.S. poultry population and the quality of U.S. poultry products. If the information were collected less frequently or not collected, APHIS could not affectively monitor the health of the nation's poultry population.

Description of Respondents: Business or other for-profit; State, Local or Tribal Government.

Number of Respondents: 12,195.

Frequency of Responses: Recordkeeping; Reporting: On occasion.

Total Burden Hours: 103,363.

Animal and Plant Health Inspection Service

Title: Animal Welfare.

OMB Control Number: 0579-0093.

Summary of Collection: The Laboratory Animal Welfare Act (AWA) (Pub. L. 89-544) enacted August 24, 1966, and amended December 24, 1970 (Pub. L. 91-579); April 22, 1976 (Pub. L. 94-279); and December 23, 1985 (Pub. L. 99-198) required the U.S. Department of Agriculture (USDA) to regulate the humane care and handling of most warm-blooded animals, including marine mammals, used for research or exhibition purposes, sold as pets, or transported in commerce. The legislation and its amendments were the result of extensive demand by organized animal welfare groups and private citizens requesting a Federal law to protect such animals. The Animal and Plant Health Inspection Service (APHIS), Animal Care (AC) has the responsibility to enforce the AWA and the provisions of 9 CFR, Chapter 1, Subchapter A, which implements the AWA.

Need and Use of the Information: APHIS will collect information to insure that animals used in research facilities or for exhibition purposes are provided humane care and treatment. The information is used to ensure those dealers, exhibitors, research facilities, carriers, etc., are in compliance with the AWA and regulations and standards promulgated under this authority of the Act.

Description of Respondents: Business or other for-profit; State, Local or Tribal Government.

Number of Respondents: 11,783.

Frequency of Responses: Recordkeeping; Reporting: On occasion.

Total Burden Hours: 50,245.

Animal and Plant Health Inspection Service

Title: National Veterinary Accreditation Program.

OMB Control Number: 0579-0297.

Summary of Collection: The Animal Health Protection Act, (APHA) of 2002 is the primary Federal law governing the protection of animal health. The law gives the Secretary of Agriculture broad authority to detect, control, or eradicate pests or diseases of livestock or poultry. The APHA is contained in Title X, Subtitle E, Sections 10401-18 of Public Law 107-171, May 13, 2002, the Farm Security and Rural Investment Act of 2002. The Animal and Plant Health Inspection Service (APHIS) is the Agency charged with carrying out this disease prevention mission. An important approach for disease detection and control is provided to APHIS by the assistance of private veterinarians through the National Veterinary Accreditation Program (NVAP). This voluntary program, administered by APHIS, certifies private practitioners, to work cooperatively with Federal and State animal health authorities.

Need and Use of the Information: APHIS will use VS form 1-36A to collect information to certify private practitioners to work cooperatively with Federal and State animal health authorities as accredited private veterinarians on various approaches for disease prevention and proactive disease surveillance as effective methods for maintaining a healthy animal population and for enhancing the United States' ability to compete in the global market for animal and animal product trade.

Description of Respondents: Business or other for-profit.

Number of Respondents: 23,800.

Frequency of Responses: Reporting: On occasion.

Total Burden Hours: 11,900.

Ruth Brown,
Departmental Information Collection Clearance Officer.

[FR Doc. 2012-28506 Filed 11-23-12; 8:45 am]

BILLING CODE 3410-34-P